DEPARTMENT OF THE INTERIOR

Bureau of Land Management

[UT-060-1430-ET; UTU-75392]

Public Land Order No. 7618; Withdrawal of Public Lands within Segments of the Colorado, Dolores, and Green River Corridors; Utah

AGENCY: Bureau of Land Management.

ACTION: Public land order.

SUMMARY: This order withdraws approximately 111,895 acres of public lands from location and entry under the United States mining laws for a period of 20 years for the Bureau of Land Management to protect the recreational, scenic, cultural, riparian, and fish and wildlife values of the Colorado, Dolores, and Green River corridors.

EFFECTIVE DATES: October 6, 2004.

FOR FURTHER INFORMATION CONTACT: Rhonda Flynn, BLM Utah State Office, P.O. Box 45155, Salt Lake City, Utah 84145-0155, 801-539-4132.

Order

By virtue of the authority vested in the Secretary of the Interior by Section 204 of the Federal Land Policy and Management Act of 1976, 43 U.S.C. 1714 (1994), it is ordered as follows:

1. Subject to valid existing rights, the following described public lands are hereby withdrawn from location and entry under the United States mining laws (30 U.S.C. Ch. 2 (1994)), to protect the recreational, scenic, cultural, riparian, and fish and wildlife values of the Colorado, Dolores, and Green River corridors:

Salt Lake Meridian

(a) Colorado River

T. 21 S., R. 24 E.,

Sec. 22, lots 2, 3, 9, and 10, SW¼NW¼, and NW¼SW¼;

Sec. 23, lots 8 to 12, inclusive, and N½NE¼NW¼;

Sec. 26, lots 10 to 15, inclusive, and SW¼NE¼;

Sec. 27, lot 6 and SE¼NW¼;

Sec. 35, lots 9 to 14, inclusive.

T. 22 S., R. 24 E.,

Sec. 2, lots 2 to 6, inclusive, and SE¼NW¼;

Sec. 3, lots 1, 2, and 3, and lots 5 to 11, inclusive;

Sec. 10, lots 1 to 5, inclusive, SE¼NW¼, and NE¼SE¼;

Sec. 11, lots 1 to 9, inclusive, and NW¼SW¼;

Sec. 14, lot 1, NW¼NE¼, and NE¼NW¼;

Sec. 15, lots 1 to 11, inclusive;

Sec. 16, lot 1 and NE¼SE¼;

Sec. 21, lots 1 to 9, inclusive, and NE¼SW¼;

Sec. 22, lots 1 and 2;

Sec. 33, SW¼SW¼.

T. 23 S., R. 23 E.,

Sec. 12, SE¼SW¼ and S½SE¼;

Sec. 13, lots 1 to 8, inclusive, NE¼, N½NW¼, SE¼NW¼, NE¼SW¼, and N½SE¼;

Sec. 14, lots 1 to 7, inclusive, N½NE¼, SE¼NW¼, E½SW¼, and SE¼SE¼;

Sec. 23, lots 1 to 6, inclusive, E½NW¼, SW¼NE¼, and NW¼SE¼;

Sec. 24, lots 1 to 9, inclusive, S½N½, and E½SW¼;

Sec. 25, lots 1 to 10, inclusive, SW¼NE¼, NE¼NW¼, W½SW¼, and E½SE¼;

Sec. 26, E½NE¼ and NE¼SE¼;

Sec. 34, SE¼NE¼, S½SW¼, and SE¼;

Sec. 35, lots 1, 2, and 3, S½N½, N½S½, and S½SW¼;

Sec. 36, lots 1 to 10, inclusive, E½NE¼, NE¼NW¼, SW¼NW¼, N½SE¼, and SW¼SE¼.

T. 23 S., R. 24 E.,

Sec. 5, lots 1 to 4, inclusive, lots 6 to 11, inclusive, SE¼NE¼, NE¼SE¼, and E½SW¼;

Sec. 8, lots 1, 2, 4, 5, and 10;

Sec. 17, lots 1 to 4, inclusive, S½N½, N½S½, and S½SE¼;

Sec. 18, lots 1 to 10, inclusive, S½NE¼, SE¼NW¼, E½SW¼, and SE¼;

Sec. 19, lots 1 and 2, NE¼, and E½NW¼;

Sec. 20, N½NE¼, and SE¼NE¼;

Sec. 30, lot 4;

Sec. 31, lots 1 to 4, inclusive, and E½W½.

T. 24 S., R. 22 E.,

Sec. 25, lots 1 to 4, inclusive, NE¼, S½NW¼, and N½SW¼;

Sec. 26, lots 1 to 6, inclusive;

Sec. 27, lots 1 to 8, inclusive, and N½SW¼;

Sec. 28, lots 1 and 2, and SW¼SE¼;

Sec. 33, lots 1 to 11, inclusive, N½NW¼, and SE¼SW¼;

Sec. 34, N½N½;

Sec. 35, S½S½S½NE¼, N½NW¼, SE¼NW¼, NE¼SW¼, and SE¼;

Sec. 36, lots 1 and 2.

T. 24 S., R. 23 E.,

Sec. 1, lots 1 to 4, inclusive, S½N½, and S½;

Sec. 2, lots 2 to 5 inclusive, and lots 8 and 9;

Sec. 3, lots 1 to 7, inclusive, S½N½, SW¼, and NW¼SE¼;

Sec. 4, lots 1, 2, 6, and 7, S½NE¼, E½SW¼, and SE¼;

Sec. 5, lots 6 and 7, and W½SE¼;

Sec. 8, lots 1 to 4, inclusive, E½SW¼, and W½E½;

Sec. 9, lots 1 to 6, inclusive, NE¼, NE¼NW¼, SW¼, and NW¼SE¼;

Sec. 10, lots 1, 3, 4 and 8, SE¼NE¼, S½SE¼, and NW¼NW¼;

Sec. 11, N½, NE¼SW¼, S½SW¼, and SE¼;

Sec. 12, NW¼NE¼ and W½;

Sec. 13, N½NW¼, SW¼NW¼, and NW¼SW¼;

Sec. 14, N½ and N½S½;

Sec. 15, NE¼, NE¼NW¼, S½NW¼, and S½;

Sec. 17, lots 1 to 6, inclusive, W½NE¼, E½NW¼, SW¼NW¼, and SW¼;

Sec. 18, lots 2, 3, and 4, S½NE¼, SE¼NW¼, E½SW¼, and SE¼.

Sec. 19, lots 1 to 7, inclusive, NE¼, E½W½, and N½SE¼;

Sec. 20, lots 1 to 8, inclusive, lots 12, 13, and 14, and N½NW¼;

Sec. 21, NW¼NE¼, W½, and W½SE¼;

Sec. 28, lots 1 to 4, inclusive, S½N½, and S½;

Sec. 29, lot 1, NW¼NE¼, S½NE¼, W½, and SE¼;

Sec. 30, lots 1 to 9, inclusive, lots 11 and 12, SE¼NE¼, NE¼SE¼, and S½SE¼;

Sec. 31, lots 1, 2 and 3, N½NE¼, SW¼NE¼, E½NW¼, NE¼SW¼, and NW¼SE¼.

T. 25 S., R. 21 E.,

Sec. 31, lots 4, 5, and 6, SE¼SW¼, and NW¼SE¼;

Sec. 33, NE¼NE¼;

Sec. 34, lots 6 to 9, inclusive, and SE¼SW¼.

T. 25 S., R 22 E.,

Sec. 3, S½SW¼ and W½SE¼;

Sec. 4, lots 4 and 5, W½SW¼, SE¼SW¼, and S½SE¼;

Sec. 5, lots 1, 2, and 3;

Sec. 8, lots 1 and 2;

Sec. 9, lots 1 to 4, inclusive, and N½NW¼;

Sec. 10, lots 1 to 7, inclusive, and W½E½;

Sec. 15, lot 1, W½NE¼, NE¼NW¼, and S½NW¼;

Sec. 16, lots 1 to 4, inclusive, and N½SE¼;

Sec. 17, lots 1 to 4, inclusive;

Sec. 19, lots 1 to 4, inclusive, SE¼SW¼, and NE¼SE¼;

Sec. 20, lot 1, N½NE¼, NE¼NW¼, and SW¼NW¼;

Sec. 21, NW¼NW¼;

Sec. 30, lots 1 and 2.

T. 26 S., R 20 E.,

Sec. 1, lot 1, lots 8 to 14, inclusive, SW¼NE¼, S½NW¼, and N½SW¼;

Sec. 12, lots 1, 2, and 3, SW¼NE¼, SW¼SE¼, and E½SE¼;

Sec. 13, lots 1 and 2, and N½NE¼.

T. 26 S., R 21 E.,

Sec. 3, lot 2, lots 7 to 12, inclusive, and SW¼SE¼;

Sec. 5, lots 3 to 6, inclusive, lots 9 to 12, inclusive, SW¼NE¼, SE¼NW¼, and E½SW¼;

Sec. 6, lots 1 to 13, inclusive, SW¼NE¼, SE¼NW¼, E½SW¼, W½SE¼, and SE¼SE¼;

Sec. 7, lots 1 to 7, inclusive, NE¼, E½NW¼, N½SE¼, and SE¼SE¼;

Sec. 8, lots 1 to 8, inclusive, and E½W½;

Sec. 9, SE¼SE¼;

Sec. 10, lots 1 to 7, inclusive, lots 9, 10, and 11, NE¼SE¼, and SW¼SE¼;

Sec. 11, lots 4 and 5;

Sec. 15, E½W½ and SW¼SW¼;

Sec. 16, lot 1;

Sec. 17, lots 1 to 9, inclusive, E½NW¼, and SE¼SE¼;

Sec. 18, lots 1 to 8, inclusive, E½E½, and SW¼NE¼;

Sec. 19, lots 1, 2, 3, and 5;

Sec. 20, lots 1 to 6, inclusive, and SE¼NW¼;

Sec. 21, lots 1 to 8, inclusive, NW¼NW¼, and SE¼NE¼.

The area described contains approximately 28,335 acres in Grand County.

(b) Dolores River (including the river bottom)

T. 23 S., R. 24 E.,

Sec. 1, S½S½;

Sec. 2, lots 5 and 6, SW¼SW¼, and SE¼SE¼;

Sec. 9, lots 1 to 12, inclusive, NE¼NW¼, and S½NE¼;

Sec. 10, lots 1 to 11, inclusive, NE¼NE¼, SW¼NE¼, NE¼SW¼, and SE¼SE¼;

Sec. 11, lots 1 to 8, inclusive, S½NE¼, SE¼NW¼, and S½;

Sec. 12, lots 1 to 13, inclusive, N½NE¼, SW¼NW¼, and SW¼;

Sec. 13, lots 1 to 5, inclusive, W½NE¼, N½NW¼, and W½SE¼;

Sec. 14, N½;

Sec. 15, lots 1 and 2, NE¼, E½NW¼, SW¼, and NW¼SE¼;

Sec. 16, lots 5, 6, 10, 11 and 12, NW¼SW¼, and S½SE¼;

Sec. 21, NW¼NE¼, N½NW¼, SW¼NW¼, and NW¼SW¼;

Sec. 22, W½NE¼, NW¼, and NE¼SW¼.

T. 23 S., R.25 E.,

Sec. 7, lots 3 and 4, E½SW¼, and SW¼SE¼;

Sec. 16, SW¼;

Sec. 17, lots 1 to 5, inclusive, and lot 9;

Sec. 18, lots 3 to 9, inclusive, NW¼NE¼, S½NE¼, E½NW¼, NE¼SW¼, N½SE¼, and SE¼SE¼;

Sec. 19, lot 1;

Sec. 20, lots 1, 2, and 6, and SE¼NE¼;

Sec. 21, lots 1 to 11, inclusive, E½NE¼, and SW¼;

Sec. 22, lots 1 to 7, inclusive, and E½SE¼;

Sec. 26, W½;

Sec. 27, lots 1 to 8, inclusive, NE¼NE¼, S½NE¼, W½W½, and SE¼;

Sec. 28, NE¼, NE¼NW¼, and E½SE¼;

Sec. 33, E½;

Sec. 34, lots 1 to 8, inclusive, NE¼, SE¼NW¼, E½SW¼, and SE¼.

T. 23 S., R. 26 E.,

Sec. 31, SE¼;

Sec. 32, S½N½ and S½;

Sec. 33, lots 3 and 4, and W½SW¼.

T. 24 S., R. 25 E.,

Sec. 1, lots 6, 7, and 8, and NW¼SW¼;

Sec. 2, lots 3 to 12, inclusive, S½SW¼, and SW¼SE¼;

Sec. 3, lots 1 to 5, inclusive, SE¼NW¼, SW¼NE¼, and SE¼;

Sec. 9, NE¼SE¼ and S½SE¼;

Sec. 10, NE¼, SE¼NW¼, and S½;

Sec. 11, lot 1, NW¼NE¼, S½NE¼, N½NW¼, N½SE¼, SE¼SE¼, and SW¼SW¼;

Sec. 12, lots 1 to 15, inclusive, NE¼NW¼, S½SW¼, and SW¼SE¼;

Sec. 14, W½NW¼;

Sec. 15, NE¼ and E½NW¼.

T. 24 S., R.26 E.,

Sec. 4, lots 1 to 5, inclusive, SW¼NW¼, and W½SW¼;

Sec. 5, lots 1 to 4, inclusive, S½N½, NE¼SW¼, and SE¼;

Sec. 6, lots 1, 2, and 3, S½N½, N½S½, S½SW¼, and SW¼SE¼;

Sec. 7, W½NE¼, SE¼NE¼, NW¼, and SE¼;

Sec. 8, SW¼NW¼ and W½SW¼;

Sec. 17, W½W½;

Sec. 18, E½E½;

Sec. 19, E½NE¼;

Sec. 20, W½;

Sec. 29, E½W½ and W½E½.

The area described contains approximately 16,445 acres in Grand County.

(c) Green River (including the river bottom in non-navigable sections)

T. 12 S., R. 17 E., unsurveyed, except as noted

Sec. 24, SE¼, surveyed;

Sec. 25 (A);

Sec. 26 (A);

Sec. 27 (A), excluding W½W½;

Sec. 34 (A), excluding W½W½;

Sec. 35 (B);

Sec. 36 (B).

T. 13 S., R. 17 E., unsurveyed, except as noted

Sec. 1 (B);

Sec. 2 (A);

Sec. 3, excluding W½W½;

Sec. 10 (A), excluding N½N½, S½NW¼, and W½SW¼;

Sec. 11 (A), excluding NW¼NW¼;

Sec. 12 (B);

Sec. 15 (A), excluding NW¼NW¼;

Sec. 16, E½SE¼, surveyed;

Sec. 21, E½NE¼;

Sec. 22 (A), excluding SW¼SW¼;

Sec. 23 (B);

Sec. 26 (B);

Sec. 27, E½W½ and E½;

Sec. 33 (A), excluding W½;

Sec. 34 (A);

Sec. 35 (B).

T. 14 S., R. 17 E., unsurveyed,

Sec. 3 (B);

Sec. 4 (A), excluding W½;

Sec. 9 (A), excluding NW¼, N½SW¼, and SW¼SW¼;

Sec. 10 (B);

Sec. 16 (A);

Sec. 17 (A), excluding W½, N½NE¼, and SW¼NE¼;

Sec. 20 (A), excluding W½;

Sec. 21 (B);

Sec. 28 (B);

Sec. 29 (A), excluding N½NW¼;

Sec. 32 (A).

T. 15 S., R. 16 E., unsurveyed,

Sec. 1, E½.

T. 15 S., R. 17 E.,

Sec. 5 (A), unsurveyed;

Sec. 6, unsurveyed;

Sec. 7, lot 4, N½NE¼, SW¼NE¼, W½SE¼, and SE¼SE¼;

Sec. 8, lot 5 and N½NW¼;

Sec. 16 (B), unsurveyed;

Sec. 17 (A), unsurveyed;

Sec. 18, N½;

Sec. 20, E½E½;

Sec. 21 (A);

Sec. 28 (A), excluding SW¼NW¼ and NW¼SW¼;

Sec. 33 (A).

T. 16 S., R. 17 E., unsurveyed, except as noted

Sec. 3 (B);

Sec. 4 (A);

Sec. 5, SE¼;

Sec. 8, NE¼;

Sec. 9 (A), excluding SW¼;

Sec. 10 (B);

Sec. 16, lots 1 to 4, inclusive, and W½E½, surveyed;

Sec. 21 (A), excluding W½;

Sec. 22 (B);

Sec. 27 (A);

Sec. 28, E½E½;

Sec. 33 (A), excluding W½, and W½E½;

Sec. 34 (B);

Sec. 34 (C).

T. 17 S., R. 16 E.,

Sec. 21, SE¼;

Sec. 22, SW¼;

Sec. 26, N½S½ and S½SE¼;

Sec. 27, N½, N½S½, S½SW¼, and SW¼SE¼;

Sec. 28, E½;

Sec. 34, N½N½;

Sec. 35, E½W½ and E½;

Sec. 36, SE¼.

T. 17 S., R. 17 E.,

Sec. 3, lot 5;

Sec. 4, lots 1, 2, 5, 6, 9, 10, and 11;

Sec. 9, lots 1, 2, 4, and 5, SW¼NE¼, NE¼SW¼, S½SW¼, and W½SE¼;

Sec. 16, lots 2 to 5, inclusive, lots 10 and 11, and NW¼NW¼;

Sec. 17, SE¼;

Sec. 19, lots 3 and 6, S½NE¼, and NW¼SE¼;

Sec. 20, lots 1, 2, 3, 6, 7, 8, 11, and 12, NW¼NE¼, and NW¼;

Sec. 21, lot 3;

Sec. 29, lots 2 and 5;

Sec. 30, lots 1, 4, and 7, SE¼NE¼, and W½E½;

Sec. 31, lot 2, and lots 4 to 8, inclusive, W½NE¼, E½NW¼, E½SW¼, W½SE¼, and NE¼SE¼;

Sec. 32, lots 3, 4, 7, 8, and 9.

T. 18 S., R. 16 E.,

Sec. 1, lots 1, 2, and 3, S½NE¼, SE¼NW¼, E½SW¼, and SE¼;

Sec. 12, lots 1, 2, and 3, W½NE¼, E½NW¼, NE¼SW¼, NW¼SE¼, and S½SE¼;

Sec. 25, lots 1, 2, and 3, S½NE¼, E½SW¼, and W½SE¼;

Sec. 36, lots 1 to 4, inclusive, W½E½, E½W½, and SE¼SE¼.

T. 18 S., R. 17 E.,

Sec. 6, lots 3 to 6, inclusive, and lots 9 and 10;

Sec. 7, lots 5, 6, and 7;

Sec. 18, lots 2, 3, 4, 6, 9, 12, and 13, NE¼NW¼, SW¼NE¼, NW¼SE¼, and SE¼SW¼;

Sec. 19, lots 1 to 10, inclusive, E½NW¼, E½SW¼, and W½SE¼;

Sec. 20, lots 1 and 2, W½NW¼, excluding Uintah Reservation, SE¼NW¼, excluding Uintah Reservation, E½SW¼, and SW¼SE¼;

Sec. 29, lots 1 to 7, inclusive, E½, NE¼NW¼, and SE¼SW¼;

Sec. 30, lots 1 to 12, inclusive, NW¼NE¼, S½NE¼, E½NW¼, and NE¼SE¼;

Sec. 31, lots 1 to 7, inclusive, S½NE¼, E½NW¼, NE¼SW¼, and SE¼;

Sec. 32, NW¼NW¼, S½NW¼, N½SW¼, and NW¼SE¼.

T. 19 S., R.16 E.,

Sec. 1, lots 1 to 17, inclusive, SW¼NW¼, SE¼NE¼, and SE¼;

Sec. 2, lots 9 to 15, inclusive, N½S½, and SW¼SW¼;

Sec. 3, SE¼SE¼;

Sec. 10, lots 1 to 7, inclusive, W½NE¼, W½, and NW¼SE¼;

Sec. 11, lots 1 to 4, inclusive, N½NE¼, SW¼NE¼, SE¼NW¼, and W½SW¼;

Sec. 12, N½NW¼;

Sec. 14, lots 1 to 6, inclusive, E½W½, and N½SE¼;

Sec. 15, lots 1 to 5, inclusive, NE¼SE¼, W½E½, and S½SW¼;

Sec. 21, NE¼ and S½;

Sec. 22, lots 1 to 13, inclusive, S½NE¼, NW¼NW¼, SW¼SW¼, N½SE¼, and SE¼SE¼;

Sec. 23, N½NW¼;

Sec. 26, lots 1 to 5, inclusive, NW¼NW¼, SE¼NW¼, and E½SW¼;

Sec. 27, lots 1 to 9, inclusive, NE¼NE¼, NW¼NW¼, S½NW¼, NE¼SW¼, S½SW¼, and NW¼SE¼;

Sec. 28, NE¼ and N½NW¼;

Sec. 34, lots 1 to 12, inclusive, S½NE¼, W½NW¼, and SE¼;

Sec. 35, NW¼ and S½.

T. 20 S., R. 16 E.,

Sec. 3, lots 1 to 5, inclusive, and lots 8, 9, 10, and 12, SE¼NE¼, E½SE¼, SW¼NW¼, and NW¼SW¼;

Sec. 4, SE¼SW¼ and S½SE¼;

Sec. 10, lots 1, 6, and 8, SW¼NE¼, E½NE¼, and E½SW¼;

Sec. 17, lots 1, 2, and 3.

T. 21 S., R. 16 E., Sec. 27, lots 5, 6, and 8, NE¼NW¼, S½NW¼, and SW¼SE¼;

Sec. 28, lot 2;

Sec. 33, lot 1, SE¼NE¼, and NE¼SE¼;

Sec. 34, lots 5 and 6, SW¼NW¼, N½SW¼, and SW¼SE¼;

Sec. 35, W½SW¼.

T. 22 S., R. 16 E.,

Sec. 3, lots 13, 18, 22, and 23;

Sec. 5, lots 13 and 18;

Sec. 9, SW¼SW¼;

Sec. 16, lots 1, 5, 8, 9, and 10;

Sec. 17, lots 1, 2, and 3, and S½NE¼;

Sec. 21, lots 1, 4, 5, 8, and 9, E½E½, and SW¼SW¼;

Sec. 25, W½SW¼;

Sec. 26, S½;

Sec. 27, lots 1 to 10, inclusive, lot 13, and SW¼NW¼;

Sec. 28, lots 1, 2, 4, 5, 8, and 11, E½NE¼, NE¼SE¼, and W½W½;

Sec. 33, lots 1 and 2, N½NW¼;

Sec. 34, lots 1, 5, 6, 7, and 10, and SE¼SE¼;

Sec. 35, W½NW¼.

T. 23 S., R. 16 E.,

Sec. 3, lots 2, 4, 5, 6, lots 8 to 12, inclusive, lot 14, NE¼SE¼, SW¼NW¼, W½SW¼, and SE¼SW¼;

Sec. 10, N½N½;

Sec. 11, lots 1, 3, 6, 8, 9, 10, 11 and 14, and NW¼NW¼;

Sec. 12, NW¼SW¼ and SE¼SW¼;

Sec. 13, lots 6, 7, and 10, NW¼NE¼, and E½SE¼;

Sec. 14, N½NE¼ and NE¼NW¼;

Sec. 23, lots 1, 2, and 3, NE¼NE¼, SW¼NE¼, SE¼NW¼, and E½SW¼;

Sec. 24, lots 1, 5, and 6, E½NE¼, NE¼SW¼, and NW¼SE¼;

Sec. 25, lot 8;

Sec. 26, SW¼NE¼.

T. 24 S., R. 16 E.,

Sec. 1, lots 5 to 8, inclusive, and SE¼NE¼;

Sec. 11, SE¼SE¼;

Sec. 12, lots 1 to 8, inclusive, SE¼NE¼, SW¼NW¼, and NW¼SE¼;

Sec. 13, lots 1 to 8, inclusive, NW¼SE¼, and SE¼SE¼;

Sec. 14, E½NE¼;

Sec. 23, lots 1 to 6, inclusive, NW¼NE¼, SE¼NW¼, E½SW¼, and SW¼SE¼;

Sec. 24, lots 1 to 10, inclusive, and NW¼SE¼;

Sec. 25, lots 1 to 7, inclusive.

T. 24 S., R. 17 E.,

Sec. 6, lots 1 to 14, inclusive, and S½SE¼;

Sec. 18, lot 4 and SE¼SW¼;

Sec. 19, lots 1 to 9, inclusive, lots 11, 12, and 13, E½NE¼, and NE¼SE¼;

Sec. 30, lots 1 to 5, inclusive, NW¼NE¼, SE¼NW¼, and E½SW¼;

Sec. 31, lots 1 to 13, inclusive.

T. 25 S., R. 16 E.,

Sec. 1, lots 1, 2, and 3, lots 5 to 9, inclusive, SE¼NW¼, and NE¼SW¼.

T. 25 S., R. 17 E., unsurveyed, except as noted

Sec. 5;

Sec. 6, excluding S½SW¼;

Sec. 7, NE¼;

Secs. 8, 9, 16, and 17;

Sec. 19, E½;

Secs. 20 to 23, inclusive, and secs. 26 and 27;

Sec. 28, except SW¼SW¼;

Sec. 29, except S½S½;

Sec. 30, NE¼ and N½SE¼;

Sec. 31, SE¼;

Sec. 32, lots 1, 2, and 3, S½SW¼, and NW¼SE¼, surveyed;

Secs. 33, 34, and 35.

T. 25 S., R. 17½ E., unsurveyed, except as noted

Sec. 3, excluding future lots 1 to 10, inclusive, S½NE¼, and SE¼;

Sec. 4, excluding future lots 1, 2, 3, 6, 7, and 8;

Secs. 5 and 6;

Sec. 9 (A);

Sec. 9 (B);

Sec. 10, W½;

Sec. 13, SW¼ and SW¼SE¼;

Sec. 14, S½;

Sec. 15, W½W½;

Secs. 16, 20, and 21;

Sec. 22, excluding NE¼;

Sec. 23 (A);

Sec. 23 (B);

Sec. 24, excluding E½NE¼;

Secs. 25 and 27;

Sec. 28 (A);

Sec. 28 (B);

Secs. 29, 33, and 34;

Sec. 35, except SE¼SE¼;

Sec. 36, lots 1, 2, and 3, N½NE¼, SW¼NE¼, and N½SW¼, surveyed.

T. 26 S., R. 16 E., unsurveyed,

Sec. 23, S½SE¼;

Sec. 24, S½;

Sec. 25, N½N½ and S½NW¼;

Sec. 26, NE¼, S½NW¼, SW¼, and W½SE¼;

Sec. 27, S½SE¼;

Sec. 33, SE¼;

Sec. 34.

T. 26 S R. 17 E., unsurveyed, except as noted

Secs. 2, 3, and 4;

Sec. 5, E½;

Sec. 10;

Sec. 11, excluding SW¼;

Sec. 12;

Sec. 13, excluding N½NW¼, SW¼NW¼, and W½SW¼;

Sec. 15, W½;

Sec. 16, N½NE¼, SE¼NE¼, NE¼NW¼, SE¼, NE¼SE¼SW¼, and S½SE¼SW¼, surveyed;

Sec. 17, S½S½;

Sec. 18, S½S½;

Secs. 19 and 20;

Sec. 21, N½;

Sec. 23, E½SE¼;

Sec. 24, excluding W½NW¼;

Sec. 25;

Sec. 26, excluding NW¼NE¼, and N½NW¼;

Sec. 27, excluding N½N½;

Secs. 34 and 35.

T. 26 S., R. 17½ E., unsurveyed,

Sec. 1, except N½N½;

Sec. 2, except E½NE¼;

Secs. 3, 4, 11, 12, 13, 23, and 24;

Sec. 25, NW¼;

Secs. 26, 27, and 28;

Sec. 34, excluding Canyonlands National Park;

Sec. 35, N½N½ and N½S½N½.

The area described contains approximately 67,115 acres in Carbon, Grand, and Emery Counties.

The total areas described in (a), (b), and (c) aggregate approximately 111,895 acres.

2. This withdrawal will expire 20 years from the effective date of this order unless, as a result of a review conducted before the expiration date pursuant to Section 204(f) of the Federal Land Policy and Management Act of 1976, 43 U.S.C. 1714(f) (1994), the Secretary determines that the withdrawal shall be extended.

Dated: September 11, 2004.
Gale A. Norton,
Secretary of the Interior.

[FR Doc. 04-22390 Filed 10-5-04; 8:45 am]

BILLING CODE 4310-DQ-P